DEPARTMENT OF EDUCATION

Authorization of Subgrants for the High School Career and Technical Education Teacher Pathway Initiative

AGENCY: Office of Career, Technical, and Adult Education, Department of Education.

ACTION: Notice.

SUMMARY: Pursuant to the Education Department General Administrative Regulations, this notice authorizes grantees receiving awards under the High School Career and Technical Education (CTE) Teacher Pathway Initiative (CFDA 84.051D) to make subgrants, subject to the limitations described in this notice.

DATES: Grantees may begin making subgrants on November 7, 2017.

FOR FURTHER INFORMATION CONTACT: Laura Messenger, U.S. Department of Education, 400 Maryland Avenue SW., Potomac Center Plaza (PCP), Room 11028, Washington, DC 20202-7241. Telephone: (202) 245-7840 or by fax at (202) 245-7170.

If you use a telecommunications device for the deaf (TDD) or a text telephone (TTY), call the Federal Relay Service (FRS), toll free, at 1-800-877-8339.

SUPPLEMENTARY INFORMATION:

Purpose of Program: The purpose of the High School CTE Teacher Pathway Initiative is to improve CTE programs assisted under the Carl D. Perkins Career and Technical Education Act of 2006 (the Perkins Act) by increasing the supply of high school CTE teachers available to teach students in CTE programs that align to in-demand industry sectors or occupations in States and communities where shortages of such teachers exist.

Program Authority: 20 U.S.C. 2324.

Applicable Regulations: (a) The Education Department General Administrative Regulations in 34 CFR parts 75, 77, 79, 81, 82, 84, 86, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The priorities and requirements in the notice inviting applications for this program, published June 13, 2017, in the Federal Register (82 FR 27047).

Eligible Entities for Subgrants: The following entities are eligible to apply under this competition:

(a) A State board designated or created consistent with State law as the sole State agency responsible for the administration of CTE in the State or for the supervision of the administration of CTE in the State;

(b) A local educational agency (LEA) (including a public charter school that operates as an LEA), an area CTE school, an educational service agency, or a consortium of such entities, in each case, that receives assistance under section 131 of the Perkins Act; and

(c) An eligible institution or consortium of eligible institutions that receives assistance under section 132 of the Perkins Act.

Discussion: Recognizing that creating sustainable, new, or expanded pathways to recruit and retain CTE teachers will require collaborative approaches and coordination among several entities, the Department of Education has required that the applicants to the High School CTE Teacher Pathway Initiative create partnerships to carry out the activities proposed in the applications. The Office of Career, Technical, and Adult Education has determined that for some of the partnerships, subgranting may be appropriate and necessary to meet the purposes of the High School CTE Teacher Pathway Initiative, particularly for State eligible agencies that receive a High School CTE Teacher Pathway Initiative grant award, because many of the allowable activities are decided and implemented at the school district level. The current absence of subgranting authority limits the extent to which the program grantees and partners can most effectively collaborate to conduct the activities described in funded applications.

Requirements: If the grantee uses this subgranting authority, the subgrants, consistent with 34 CFR 75.708(b)(2), must be used only to carry out directly those project activities described in the grantee's approved application. Consistent with 34 CFR 75.708(d), grantees must ensure that subgrants are awarded on the basis of the approved budget that is consistent with the grantee's approved application and all applicable Federal statutory, regulatory, and other requirements. Grantees have the authority to award subgrants to entities that have been identified in their applications as well as to those that are awarded a subgrant through a competitive award process. Grantees under the High School CTE Teacher Pathway Initiative must ensure that every subgrant includes any conditions required by Federal statutes and Executive orders and their implementing regulations. Grantees must ensure that subgrantees are aware of the requirements imposed upon them by Federal statutes and regulations, including the Federal anti-discrimination laws listed in 34 CFR 75.500, and enforced by the Department.

Note: This notice does not solicit applications.

Accessible Format: Individuals with disabilities can obtain this document in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Dated: November 2, 2017.
Michael E. Wooten,
Deputy Assistant Secretary, Delegated the Duties of the Assistant Secretary for Career, Technical, and Adult Education.

[FR Doc. 2017-24218 Filed 11-6-17; 8:45 am]

BILLING CODE 4000-01-P